DEPARTMENT OF HEALTH AND HUMAN SERVICES

National Institutes of Health

Submission for OMB Review; 30-Day Comment Request; Generic Clearance for the Collection of Customer Participation and Performance Management With NIH Programs, Processes, Products, and Services (National Institutes of Health)

AGENCY: National Institutes of Health, HHS.

ACTION: Notice.

SUMMARY: In compliance with the Paperwork Reduction Act of 1995, the National Institutes of Health (NIH) has submitted to the Office of Management and Budget (OMB) a request for review and approval of the information collection listed below.

DATES: Comments regarding this information collection are best assured of having their full effect if received within 30 days of the date of this publication.

ADDRESSES: Written comments and recommendations for the proposed information collection should be sent within 30 days of publication of this notice to www.reginfo.gov/public/do/PRAMain. Find this particular information collection by selecting “Currently under 30-day Review—Open for Public Comments” or using the search function.

FOR FURTHER INFORMATION CONTACT: Diane Kreinbrink, Program Manager, Office of Management Policy and Compliance, National Cancer Institute, 9609 Medical Center Drive, Room 2W446, Bethesda, Maryland, 20892 or call non-toll-free number (240) 276-7283 or email your request, including your address to: diane.kreinbrink@nih.gov. Formal requests for additional plans and instruments must be requested in writing.

SUPPLEMENTARY INFORMATION: This proposed information collection was previously published in the Federal Register on May 8, 2023, page 29681 (Vol. 88, No. 88 FR 29681) and allowed 60 days for public comment. No public comments were received. The purpose of this notice is to allow an additional 30 days for public comment. The National Cancer Institute (NCI), National Institutes of Health, may not conduct or sponsor, and the respondent is not required to respond to, an information collection that has been extended, revised, or implemented on or after October 1, 1995, unless it displays a currently valid OMB control number.

In compliance with section 3507(a)(1)(D) of the Paperwork Reduction Act of 1995, the National Institutes of Health (NIH) has submitted to the Office of Management and Budget (OMB) a request for review and approval of the information collection listed below.

Proposed Collection Title: Generic Clearance for the Collection of Customer Participation and Performance Management with NIH Programs, Processes, Products, and Services (NIH), 0925-XXXX: Expiration Date XX/XX/XXXX, NEW, National Institutes of Health (NIH).

Need and Use of Information Collection: Evaluating the effectiveness of leadership, programs, and services is essential for the vitality of any institution. Leadership review at NIH focuses on the productivity of the IC, management of resources and budget allocations, training activities, and influence on dimensions of diversity, accessibility, inclusion, promotion of investigators and staff (including NIH Equity Committee (NEC) reports), and positive workforce culture.

Program and service reviews may focus on operational performance; outputs, outcomes, and impacts; policy compliance, stewardship, diversity, equity, accessibility, and inclusion. Reviews and evaluations may solicit input from IC staff and leadership (IC Director, Deputy Director, E.O.) and relevant program participants and stakeholders about the program's effectiveness, leader, or process. They may include comparisons with other ICs or programs, external benchmarks, and outcome metrics where appropriate and applicable. This input should provide meaningful information that can be used to identify strengths and areas that need improvement. Reports developed from the review or evaluation may be presented and shared as needed by the program when necessary. Such reports may include recommendations and proposed actions to address areas for improvement. In public or broadly shared reports, any sensitive information in the reviews or evaluations will be summarized and presented in aggregate.

This clearance will allow direct assessment and measurement of the customer/respondent base for participation in and satisfaction with NIH programs, processes, products, and services. The clearance will also enable offices to assess participants' experience and accomplishments during or since participation and their preferences for existing and future programming, products, and services. The information collected using these tools informs and supports budgeting, program management and design, program planning, results reporting, information dissemination, process improvement, and outreach initiatives.

OMB approval is requested for 3 years. There are no costs to respondents other than their time. The total estimated annualized burden hours are 3,833.

Estimated Annualized Burden Hours
Type of respondent | Form name | Number of respondents | Number of responses per respondent | Average burden per response (in hours) | Total burden hour
Individuals, Households, Private Sector, State Government, Local Government, Tribal Government, or Federal Government | Performance Measurement | 500 | 1 | 30/60 | 250
| Program Monitoring | 500 | 1 | 15/60 | 125
| Program Evaluations | 500 | 1 | 45/60 | 375
| Grantee Effectiveness | 1,000 | 1 | 15/60 | 250
| Resource Management | 500 | 1 | 10/60 | 83
| Feedback | 5,000 | 1 | 15/60 | 1,250
| Forms | 3,000 | 1 | 30/60 | 1,500
Totals |  |  | 11,000 |  | 3,833

Dated: July 27, 2023.
Diane Kreinbrink,
Project Clearance Liaison, National Cancer Institute, National Institutes of Health.

[FR Doc. 2023-16315 Filed 7-31-23; 8:45 am]

BILLING CODE 4140-01-P